FEDERAL ELECTIONS COMMISSION

Sunshine Act Notices

AGENCY: Federal Election Commission

DATE AND TIME: Thursday, March 8, 2007, at 10 a.m.

PLACE: 999 E Street, NW., Washington, DC (Ninth Floor)

STATUS: This meeting will be open to the public.

ITEMS TO BE DISCUSSED: Correction and Approval of Minutes.

Advisory Opinion 2007-01: Senator Claire McCaskill and McCaskill for Auditor by counsel, Marc E. Elias and Caroline P. Goodson.

Advisory Opinion 2007-02: The Arizona Libertarian Party, Inc. by Warren Severin, Treasurer.

Demonstration of Advisory Opinion Search System.

Management and Administrative Matters.

PERSON TO CONTACT FOR INFORMATION: Mr. Robert Biersack, Press Officer, Telephone: (202) 694-1220.

Mary W. Dove,
Secretary of the Commission.

[FR Doc. 07-995 Filed 2-28-07; 2:15 pm]

BILLING CODE 6715-01-M